DEPARTMENT OF COMMERCE

International Trade Administration

[C-475-819]

Certain Pasta From Italy: Final Results of the Expedited Third Sunset Review of the Countervailing Duty Order

AGENCY: Import Administration, International Trade Administration, Department of Commerce.

DATES: Effective Date: January 4, 2013.

SUMMARY: On September 4, 2012, the Department of Commerce (“Department”) initiated the third Sunset Review of the countervailing duty order on certain pasta from Italy. The Department finds that revocation of this countervailing duty order would be likely to lead to continuation or recurrence of net countervailable subsidies at the rates in the “Final Results of Reviews” section of this notice.

FOR FURTHER INFORMATION CONTACT: Mahnaz Khan, AD/CVD Operations, Office 1, Import Administration, International Trade Administration, U.S. Department of Commerce, 14th Street and Constitution Avenue NW., Washington, DC 20230; telephone (202) 482-0914.

SUPPLEMENTARY INFORMATION:

Background

The countervailing duty order on certain pasta from Italy was published on July 24, 1996. See Notice of Countervailing Duty Order and Amended Final Affirmative Countervailing Duty Determination: Certain Pasta (“Pasta”) From Italy, 61 FR 38544 (July 24, 1996).

On September 4, 2012, the Department initiated the third sunset review of this order, pursuant to section 751(c) of the Tariff Act of 1930, as amended (“the Act”). See Initiation of Five-Year (“Sunset”) Review, 77 FR 53867 (September 4, 2012). The Department received a notice of intent to participate from the following domestic parties: A. Zerega's Sons, Inc., American Italian Pasta Company, Dakota Growers Pasta Company, Inc., New World Pasta Company, and Philadelphia Macaroni Company (collectively, “domestic interested parties”), within the deadline specified in 19 CFR 351.218(d)(1)(i).

The Department received an adequate substantive response to the notice of initiation from the domestic interested parties within the 30-day deadline specified in 19 CFR 351.218(d)(3)(i). The Department also received a substantive response from the Government of Italy, but received no responses from respondent interested parties. As a result, pursuant to 19 CFR 351.218(e)(1)(ii)(C)(2), the Department is conducting an expedited (120-day) sunset review of the countervailing duty order on certain pasta from Italy.

Scope of the Order

The merchandise subject to the order is pasta. The product is currently classified under items 1901.90.90.95 and 1902.19.20 of the Harmonized Tariff Schedule of the United States (“HTSUS”). Although the HTS numbers are provided for convenience and customs purposes, the written product description, available in Notice of Countervailing Duty Order and Amended Final Affirmative Countervailing Duty Determination: Certain Pasta (“Pasta”) From Italy, 61 FR 38544 (July 24, 1996), remains dispositive.

Analysis of Comments Received

All issues raised in these reviews are addressed in the Issues and Decision Memorandum (“Decision Memorandum”) from Gary Taverman, Senior Advisor for Antidumping and Countervailing Duty Operations, to Lynn Fischer Fox, Deputy Assistant Secretary for Policy and Negotiations, dated December 28, 2012, which is hereby adopted by this notice. The issues discussed in the Decision Memorandum include the likelihood of continuation or recurrence of a countervailable subsidy and the net countervailable subsidy likely to prevail if the order was revoked. Parties can find a complete discussion of all issues raised in this review and the corresponding recommendations in this public memorandum, which is on file electronically via Import Administration's Antidumping and Countervailing Duty Centralized Electronic Service System (“IA ACCESS”). IA ACCESS is available to registered users at http://iaaccess.trade.gov and in the Central Records Unit in room 7046 of the main Commerce building. In addition, a complete version of the Decision Memorandum can be accessed directly on the Internet at http://ia.ita.doc.gov/ia/. The signed Decision Memorandum and electronic versions of the Decision Memorandum are identical in content.

Final Results of Review

Pursuant to sections 752(b)(1) and (3) of the Act, we determine that revocation of the countervailing duty order on certain pasta from Italy would be likely to lead to continuation or recurrence of countervailable subsidies at the following net countervailable subsidy rates:

Manufacturers/exporters/ producers | Net counter-vailable subsidy (percent)
Agritalia, S.r.l. | 6.84
Arrighi S.p.A. Industrie Alimentari | 6.73
De Matteis Agroalimentare S.p.A. | 6.01
Delverde, S.r.l. | 9.64
F. Ili De Cecco di Filippo Fara S. Martino S.p.A. | 6.28
Industria Alimentare Colavita, S.p.A. | 5.89
Isola del Grano, S.r.L. | 13.58
Italpast S.p.A. | 13.58
Italpasta S.r.L. | 6.73
La Molisana Alimentari S.p.A. | 7.70
Labor, S.r.L. | 13.58
Molino e Pastificio De Cecco S.p.A. Pescara | 6.28
Pastificio Guido Ferrara | 5.22
Pastificio Campano, S.p.A. | 6.35
Pastificio Riscossa F.lli Mastromauro S.r.L. | 10.69
Tamma Industrie Alimentari di Capitanata | 9.64
All Others | 7.39

This notice also serves as the only reminder to parties subject to administrative protective order (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(b), and 777(i)(1) of the Act.

Dated: December 28, 2012.
Lynn Fischer Fox,
Deputy Assistant Secretary for Policy and Negotiations.

[FR Doc. 2012-31727 Filed 1-3-13; 8:45 am]

BILLING CODE 3510-DS-P